CONSUMER FINANCIAL PROTECTION BUREAU

12 CFR Part 1022

[Docket No. CFPB-2024-0044]

RIN 3170-AB27

Protecting Americans From Harmful Data Broker Practices (Regulation V); Extension of Comment Period

AGENCY: Consumer Financial Protection Bureau.

ACTION: Proposed rule; extension of comment period.

SUMMARY: On December 13, 2024, the Consumer Financial Protection Bureau (CFPB) published in the Federal Register a notice of proposed rulemaking (NPRM) requesting comment on the CFPB's proposal to amend Regulation V, which implements the Fair Credit Reporting Act (FCRA). The proposed rule would implement the FCRA's definitions of consumer report and consumer reporting agency as well as certain of the FCRA's provisions governing when consumer reporting agencies may furnish, and users may obtain, consumer reports. The NPRM provided a comment period that was set to close on March 3, 2025. To allow interested persons more time to consider and submit their comments, the CFPB has determined that an extension of the comment period until April 2, 2025, is appropriate.

DATES: The end of the comment period for the proposed rule that published at 89 FR 101402 (December 13, 2024) is extended from March 3, 2025, until April 2, 2025.

ADDRESSES: You may submit comments, identified by Docket No. CFPB-2024-0044 or RIN 3170-AB27, by any of the following methods:

• Federal eRulemaking Portal: https://www.regulations.gov. Follow the instructions for submitting comments.

• Email: 2024-NPRM-CONSUMER-REPORTING@cfpb.gov. Include Docket No. CFPB-2024-0044 or RIN 3170-AB27 in the subject line of the message.

• Mail/Hand Delivery/Courier: Comment Intake—Protecting Americans from Harmful Data Broker Practices (Regulation V), c/o Legal Division Docket Manager, Consumer Financial Protection Bureau, 1700 G Street NW, Washington, DC 20552.

Instructions: The CFPB encourages the early submission of comments. All submissions should include the agency name and docket number or Regulatory Information Number (RIN) for this rulemaking. Because paper mail is subject to delay, commenters are encouraged to submit comments electronically. In general, all comments received will be posted without change to https://www.regulations.gov.

All submissions, including attachments and other supporting materials, will become part of the public record and subject to public disclosure. Proprietary information or sensitive personal information, such as account numbers or Social Security numbers, or names of other individuals, should not be included. Submissions will not be edited to remove any identifying or contact information.

FOR FURTHER INFORMATION CONTACT: Laura Stack, Senior Counsel, Office of Regulations, at 202-435-7700 or https://reginquiries.consumerfinance.gov/. If you require this document in an alternative electronic format, please contact CFPB_Accessibility@cfpb.gov.

SUPPLEMENTARY INFORMATION: On December 3, 2024, the CFPB issued an NPRM proposing to amend Regulation V, 12 CFR part 1022, to implement the FCRA's definitions of consumer report and consumer reporting agency as well as certain of the FCRA's provisions governing when consumer reporting agencies may furnish, and users may obtain, consumer reports. The NPRM was published in the Federal Register on December 13, 2024.¹ The NPRM provided a public comment period that was set to close on March 3, 2025. To allow interested persons more time to consider and submit their comments, the CFPB has determined that an extension of the comment period until April 2, 2025, is appropriate. The NPRM comment period will now close on April 2, 2025.

¹ 89 FR 101402 (Dec. 13, 2024).

Dated: February 28, 2025.
Russell T. Vought,
Acting Director, Consumer Financial Protection Bureau.

[FR Doc. 2025-03547 Filed 2-28-25; 4:15 pm]

BILLING CODE 4810-AM-P